DEPARTMENT OF ENERGY

Federal Energy Regulatory Commission

[Project No. 1494-437]

Grand River Dam Authority; Notice of Availability of Final Environmental Assessment

In accordance with the National Environmental Policy Act of 1969 and the Federal Energy Regulatory Commission's (Commission or FERC's) regulations, 18 Code of Federal Regulations (CFR) part 380, the Office of Energy Projects has reviewed an application filed by the Grand River Dam Authority (GRDA) to permanently amend the reservoir elevation rule curve contained in Article 401 of the license for the Pensacola Hydroelectric Project No. 1494. The amendment would allow GRDA to keep water surface elevations in the project's reservoir, Grand Lake O' the Cherokees (Grand Lake), up to two feet higher August 16 through October 31 each year. The project is located on the Neosho (Grand) River in Craig, Delaware, Mayes, and Ottawa Counties, Oklahoma.

Staff prepared a Final Environmental Assessment (Final EA) for the application which analyzes the potential environmental effects of approving the requested permanent change to the Article 401 rule curve and concludes that such an approval, with specified environmental protection measures, would not constitute a major federal action that would significantly affect the quality of the human environment. A copy of the Final EA is available for review at the Commission's Public Reference Room or may it be viewed on the Commission's Web site at www.ferc.gov using the eLibrary link. Enter the docket number P-1494 in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support at FERCOnlineSupport@ferc.gov or toll-free at 1-866-208-3676, or for TTY, 202-502-8659.

For further information, contact B. Peter Yarrington at (202) 502-6129 or Peter.Yarrington@ferc.gov, or contact Jeremy Jessup at (202) 502-6779 or Jeremy.Jessup@ferc.gov.

Dated: May 11, 2017.
Kimberly D. Bose,
Secretary.

[FR Doc. 2017-09955 Filed 5-16-17; 8:45 am]

BILLING CODE 6717-01-P